DEPARTMENT OF COMMERCE

[I.D. 080701D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA Satellite Ground Station Customer Questionnaire.

Form Number(s): None.

OMB Approval Number: 0648-0227.

Type of Request: Regular submission.

Burden Hours: 50.

Number of Respondents: 300.

Average Hours Per Response: 10 minutes.

Needs and Uses: The National Oceanic and Atmospheric Administration (NOAA) operates four meteorological satellite imagery transmissions systems-two from geostationary (GOES) satellites and two from polar-orbiting (TIROS) satellites. The data transmitted are available worldwide, and any user can establish a ground receiving station for reception of the data without prior consent or other approval from NOAA. The questionnaire allows NOAA to learn about who uses the data, what and location equipment is used, and similar subjects.

Affected Public: Not-for-profit institutions, individuals and households, business or other for-profit organizations, farms, Federal, state, local or tribal government.

Frequency: On occasion.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 3, 2001.
Madeleine Clayton,
Departmental Paperwork Clearance Officer, Office of the Chief Information Officer.

[FR Doc. 01-20117 Filed 8-9-01; 8:45 am]

BILLING CODE 3510-HR-S